DEPARTMENT OF TRANSPORTATION

Federal Aviation Administration

14 CFR Part 39

[Docket No. FAA-2015-3631; Directorate Identifier 2015-NM-060-AD; Amendment 39-18757; AD 2016-25-31]

RIN 2120-AA64

Airworthiness Directives; Airbus Airplanes

AGENCY: Federal Aviation Administration (FAA), Department of Transportation (DOT).

ACTION: Final rule.

SUMMARY: We are adopting a new airworthiness directive (AD) for certain Airbus Model A330-200 and -300 series airplanes; Model A330-200 Freighter series airplanes; and Model A340-200, -300, -500, and -600 series airplanes. This AD was prompted by reports of chafed wiring at the upper left corner of the cockpit door. The affected wire bundle was not grounded on the cockpit door frame. This AD requires modifying the cockpit door frame structure, installing bonding-leads to the upper cockpit door frame, and modifying the upper cockpit door plate cover. We are issuing this AD to address the unsafe condition on these products.

DATES: This AD is effective February 7, 2017.

The Director of the Federal Register approved the incorporation by reference of certain publications listed in this AD as of February 7, 2017.

ADDRESSES: For service information identified in this final rule, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-3631.

Examining the AD Docket

You may examine the AD docket on the Internet at http://www.regulations.gov by searching for and locating Docket No. FAA-2015-3631; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Discussion

We issued a supplemental notice of proposed rulemaking (SNPRM) to amend 14 CFR part 39 by adding an AD that would apply to certain Airbus Model A330-200 and -300 series airplanes; Model A330-200 Freighter series airplanes; and Model A340-200, -300, -500, and -600 series airplanes. The SNPRM published in the Federal Register on June 6, 2016 (81 FR 36211) (“the SNPRM”). We preceded the SNPRM with a notice of proposed rulemaking (NPRM) that was published in the Federal Register on September 18, 2015 (80 FR 56405) (“the NPRM”). The NPRM proposed to require modifying the cockpit door frame structure, installing bonding-leads to the upper cockpit door frame, and modifying the upper cockpit door plate cover. The NPRM was prompted by reports of chafed wiring at the upper left corner of the cockpit door. The SNPRM proposed to also require, for certain airplanes, installing a noise-reduced cockpit door locking system (CDLS). We are issuing this AD to prevent electrical shock injury to persons contacting the cockpit door.

The European Aviation Safety Agency (EASA), which is the Technical Agent for the Member States of the European Union, has issued EASA AD 2015-0037, dated March 2, 2015 (referred to after this as the Mandatory Continuing Airworthiness Information, or “the MCAI”), to correct an unsafe condition for certain Airbus Model A330-200 and -300 series airplanes; Model A330-200 Freighter series airplanes; and Model A340-200, -300, -500, and -600 series airplanes. The MCAI states:

An operator has reported chafed wiring at the upper left corner of the cockpit door. The investigation concluded that the affected wire bundle, which supplies a voltage of 115V [volt] AC [alternating current], was not grounded on the cockpit door frame as part of the design of A330 and A340 aeroplanes.

This condition, if not corrected, could result in injury [electrical shock], in case any person gets in contact with the door frame.

Prompted by these findings, Airbus issued SB [service bulletin] A330-25-3534, SB A340-25-4349 and SB A340-25-5212 to provide instructions to modify the electrical bonding of the cockpit door.

For the reasons described above, this [EASA] AD requires modification of the cockpit door frame structure, installation of bonding-leads to the upper cockpit door frame and modification of the upper cockpit door plate cover.

You may examine the MCAI in the AD docket on the Internet at http://www.regulations.gov by searching for and locating Docket No. FAA-2015-3631.

Comments

We gave the public the opportunity to participate in developing this AD. The following presents the comments received on the SNPRM and the FAA's response to each comment.

Requests To Remove Requirement for Additional Concurrent Actions

Delta Airlines (DAL) requested that we remove the proposed requirement to install the CDLS as specified in Airbus Service Bulletin A330-25-3254, Revision 02, dated December 13, 2004. American Airlines (AAL) requested that we clarify the airplanes affected by that proposed requirement. Both commenters stated that Airbus has confirmed that installation of the noise-reduced CDLS specified in Airbus Service Bulletin A330-25-3254, Revision 02, dated December 13, 2004, is optional and applies only to certain Qantas Airways Limited airplanes. Airbus stated that modification of the airplane as specified in Airbus Service Bulletin A330-25-3213, Revision 02, dated August 12, 2016, has the same impact on the airplane as the modification specified in Airbus Service Bulletin A330-25-3254, Revision 02, dated December 13, 2004. Airbus explained that the airplanes affected by proposed requirement are defined as configuration 01 in Airbus Service Bulletin A330-25-3534, Revision 02, dated May 18, 2015, which will be corrected at its next revision to remove the reference to optional Airbus Service Bulletin A330-25-3254, Revision 02, dated December 13, 2004.

We agree with the commenters' requests. We have confirmed that modification of the airplane as specified in Airbus Service Bulletin A330-25-3254, Revision 02, dated December 13, 2004, is optional and applies only to certain Qantas Airways Limited airplanes. We have removed paragraphs (i) and (j)(3) from the proposed AD (in the SNPRM) and redesignated subsequent paragraphs accordingly.

Changes to Final Rule

Airbus has released Service Bulletin A330-25-3213, Revision 02, dated August 12, 2016. This service information revision specifies minor additional work to replace the fasteners of the cover of the cockpit door frame. We have determined that this minor change will not increase the overall cost estimates specified in the SNPRM or otherwise impose an additional burden on any operator. We have revised paragraph (h) of this AD to specify A330-25-3213, Revision 02, dated August 12, 2016, as an appropriate source of service information for accomplishing the required actions. We have removed Airbus Service Bulletin A330-25-3213, dated October 12, 2004, from paragraph (j)(2)(i) of the proposed AD (in the SNPRM) and redesignated subsequent paragraphs accordingly.

Conclusion

We reviewed the relevant data, considered the comments received, and determined that air safety and the public interest require adopting this AD with the changes described previously and minor editorial changes. We have determined that these minor changes:

• Are consistent with the intent that was proposed in the SNPRM for correcting the unsafe condition; and

• Do not add any additional burden upon the public than was already proposed in the SNPRM.

We also determined that these changes will not increase the economic burden on any operator or increase the scope of this AD.

Related Service Information Under 1 CFR Part 51

Airbus has issued the following service information.

• Airbus Service Bulletin A330-25-3213, Revision 02, dated August 12, 2016. This service information describes procedures for modification of the upper cockpit door plate cover.

• Airbus Service Bulletin A330-25-3534, Revision 02, dated May 18, 2015. This service information describes procedures for modifying the cockpit door frame structure and installing bonding-leads to the upper cockpit door frame.

• Airbus Service Bulletin A340-25-4217, Revision 01, dated April 25, 2005. This service information describes procedures for modification of the upper cockpit door plate cover.

• Airbus Service Bulletin A340-25-4349, Revision 02, dated September 4, 2015. This service information describes procedures for modifying the cockpit door frame structure and installing bonding-leads to the upper cockpit door frame.

• Airbus Service Bulletin A340-25-5046, Revision 02, dated February 5, 2007. This service information describes procedures for modification of the upper cockpit door plate cover.

• Airbus Service Bulletin A340-25-5212, Revision 01, dated October 27, 2014. This service information describes procedures for modifying the cockpit door frame structure and installing bonding-leads to the upper cockpit door frame.

This service information is reasonably available because the interested parties have access to it through their normal course of business or by the means identified in the ADDRESSES section.

Costs of Compliance

We estimate that this AD affects 70 airplanes of U.S. registry.

We estimate that it would take about 53 work-hours per product to comply with the new basic requirements of this AD. The average labor rate is $85 per work-hour. Required parts would cost about $2,430 per product. Based on these figures, we estimate the cost of this AD on U.S. operators to be $485,450, or $6,935 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-25-31 Airbus: Amendment 39-18757; Docket No. FAA-2015-3631; Directorate Identifier 2015-NM-060-AD.

(a) Effective Date

This AD is effective February 7, 2017.

(b) Affected ADs

None.

(c) Applicability

This AD applies to Airbus airplanes, certificated in any category, identified in paragraphs (c)(1), (c)(2), and (c)(3) of this AD, except airplanes on which Airbus Modification 203066, Modification 203074, or Modification 203372 has been embodied in production.

(1) Model A330-201, -202, -203, -223, -223F, -243, -243F, -301, -302, -303, -321, -322, -323, -341, -342, and -343 airplanes; all manufacturer serial numbers (MSNs); if modified in-service as specified in Airbus Service Bulletin A330-25-3161, or in production with Airbus Modification 50014.

(2) Model A340-211, -212, -213, -311, -312, and -313 airplanes; all MSNs, if modified in-service as specified in Airbus Service Bulletin A340-25-4181, or in production with Airbus Modification 50014.

(3) Model A340-541 airplanes and Model A340-642 airplanes; all MSNs.

(d) Subject

Air Transport Association (ATA) of America Code 25, Equipment/furnishings.

(e) Reason

This AD was prompted by reports of chafed wiring at the upper left corner of the cockpit door. The affected wire bundle was not grounded on the cockpit door frame. We are issuing this AD to prevent electrical shock injury to persons contacting the cockpit door.

(f) Compliance

Comply with this AD within the compliance times specified, unless already done.

(g) Door Modification and Installation

Within 24 months after the effective date of this AD, modify the cockpit door frame structure and install bonding-leads to the upper cockpit door frame, in accordance with the Accomplishment Instructions of the applicable service information identified in paragraphs (g)(1), (g)(2), and (g)(3) of this AD.

(1) Airbus Service Bulletin A330-25-3534, Revision 02, dated May 18, 2015.

(2) Airbus Service Bulletin A340-25-4349, Revision 02, dated September 4, 2015.

(3) Airbus Service Bulletin A340-25-5212, Revision 01, dated October 27, 2014.

(h) Cover Plate Modification of the Upper Flight Deck Door

Except for airplanes on which Airbus Modification 52869 or Modification 53292 has been embodied in production: Prior to or concurrently with accomplishing the actions required by paragraph (g) of this AD, modify the upper cockpit door plate cover, in accordance with the Accomplishment Instructions of the applicable service information identified in paragraphs (h)(1), (h)(2), and (h)(3) of this AD.

(1) For configuration 1 airplanes identified in Airbus Service Bulletin A330-25-3534, Revision 02, dated May 18, 2015: Airbus Service Bulletin A330-25-3213, Revision 02, dated August 12, 2016.

(2) For airplanes identified in Airbus Service Bulletin A340-25-4349, Revision 02, dated September 4, 2015: Airbus Service Bulletin A340-25-4217, Revision 01, dated April 25, 2005.

(3) For airplanes identified in Airbus Service Bulletin A340-25-5212, Revision 01, dated October 27, 2014: Airbus Service Bulletin A340-25-5046, Revision 02, dated February 5, 2007.

(i) Credit for Previous Actions

(1) This paragraph provides credit for the actions required by paragraph (g) of this AD, if those actions were performed before the effective date of this AD using Airbus Service Bulletin A330-25-3534, Revision 01, dated October 23, 2014; or Airbus Service Bulletin A340-25-4349, Revision 01, dated October 27, 2014, as applicable. These service bulletins are not incorporated by reference in this AD.

(2) This paragraph provides credit for the actions required by paragraph (h) of this AD, if those actions were performed before the effective date of this AD using the applicable service information specified in paragraphs (i)(2)(i), (i)(2)(ii), and (i)(2)(iii) of this AD. This service information is not incorporated by reference in this AD.

(i) Airbus Service Bulletin A340-25-4217, dated October 12, 2004.

(ii) Airbus Service Bulletin A340-25-5046, dated October 12, 2004.

(iii) Airbus Service Bulletin A340-25-5046, Revision 01, dated May 11, 2005.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: 425-227-1138; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA AD 2015-0037, dated March 2, 2015, for related information. This MCAI may be found in the AD docket on the Internet at http://www.regulations.gov by searching for and locating Docket No. FAA-2015-3631.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-25-3213, Revision 02, dated August 12, 2016.

(ii) Airbus Service Bulletin A330-25-3534, Revision 02, dated May 18, 2015.

(iii) Airbus Service Bulletin A340-25-4217, Revision 01, dated April 25, 2005.

(iv) Airbus Service Bulletin A340-25-4349, Revision 02, dated September 4, 2015.

(v) Airbus Service Bulletin A340-25-5046, Revision 02, dated February 5, 2007.

(vi) Airbus Service Bulletin A340-25-5212, Revision 01, dated October 27, 2014.

(3) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 6, 2016.
Dionne Palermo,
Acting Manager, Transport Airplane Directorate, Aircraft Certification Service.

[FR Doc. 2016-30280 Filed 12-30-16; 8:45 am]

BILLING CODE 4910-13-P